DEPARTMENT OF TRANSPORTATION

Research and Special Programs Administration

49 CFR Part 192

[Docket No. RSPA-00-7666; Notice 6]

RIN 2137-AD54

Pipeline Safety: Pipeline Integrity Management in High Consequence Areas (Gas Transmission Pipelines)

AGENCY: Office of Pipeline Safety (OPS), Research and Special Programs Administration (RSPA), DOT.

ACTION: Notice of public meeting.

SUMMARY: This notice announces a one-day public meeting to address issues raised at a recent workshop jointly organized by the Interstate Natural Gas Association of America (INGAA) Foundation and the American Gas Association (AGA) on the proposed 49 CFR part 192.763, “Pipeline Integrity Management in High Consequence Areas”. This meeting is intended to give participants a better understanding of the proposed rule. OPS representatives will give an overview of the proposed regulation and will fully discuss identification of high consequence areas and moderate risk areas; confirmatory direct assessment methods; assessment schedules, and criteria for the performance approach to the program. RSPA/OPS is also seeking information on the costs and benefits of implementing the proposed requirements.

ADDRESSES: The meeting is open to all. There is no cost to attend. This meeting will be held on Friday March 14, 2003, from 9 a.m. to 5 p.m. at the Marriott at Metro Center hotel located at 775 12th Street, NW., Washington, DC; Tel: 202-737-2200); fax: 202-347-5886; website: www.marriott.com. You may register electronically for this meeting at: http://primis.rspa.dot.gov/meetings. Please make your reservations as soon as possible as hotel rooms are limited. For other details on this meeting contact Janice Morgan at 202-366-2392.

You may submit written comments by mail or delivery to the Dockets Facility, U.S. Department of Transportation, Room PL-401, 400 Seventh Street, SW., Washington, DC 20590-0001. The dockets facility is open from 10 a.m. to 5 p.m., Monday through Friday, except on Federal holidays. You should submit the original and one copy. Anyone who wants confirmation of receipt of their comments must include a stamped, self-addressed postcard. You may also submit comments to the docket electronically. To do so, log on to the Internet Web address http://dms.dot.gov. And click on “Help” for instructions on electronic filing of comments. All written comments should identify the docket number RSPA-03-14448; Notice 3.

Anyone is able to search the electronic form of all comments received into any of our dockets by the name of the individual submitting the comments (or signing the comments, if submitted on behalf of an association, business, labor union, etc.). You may review the U.S. Department of Transportation's complete Privacy Act Statement in the Federal Register published on April 11, 2000 (65 FR 19477-78), or you may visit http://dms.dot.gov.

FOR FURTHER INFORMATION CONTACT: Jenny Donohue by phone at (202) 366-4046, regarding this document. General information about RSPA/OPS programs may be obtained by accessing RSPA's Internet page at http://rspa.dot.gov.

Information on Services for Individuals With Disabilities

For information on facilities or services for individuals with disabilities or to request special assistance, contact Janice Morgan, (202) 366-2392.

SUPPLEMENTARY INFORMATION:

Background

To better prevent pipeline failures that can imperil the health and safety of nearby residents and cause significant damage to their property, RSPA/OPS is promulgating a series of rules to require pipeline operators to develop integrity management programs. The programs include conducting baseline and periodic assessments of certain pipeline segments. Although the hazardous liquid and natural gas programs are structured somewhat differently to accommodate the differences between the two types of pipeline systems, both integrity management programs are designed to identify the best method(s) for maintaining the structural soundness (i.e., integrity) of pipelines operating across the United States.

On January 9, 2002, RSPA/OPS began the integrity management rulemakings for gas transmission lines by first proposing a definition of high consequence areas (See 67 FR 1108). We also described our plan to propose integrity management program requirements for gas transmission pipelines affecting those areas. RSPA/OPS finalized the high consequence area definition on August 6, 2002 (67 FR 50824), and published the proposed rule on integrity management program requirements on January 28, 2003 (68 FR 4278).

This meeting is being held to give participants a better understanding of the proposed rule. OPS representatives will give an overview of the proposed rule and discuss fully the identification and protection of high consequence areas and moderate risk areas; and the methodology of confirmatory direct assessment. OPS will answer any questions related to the proposed rule and will seek additional information from the public about costs and benefits of implementing the proposed rule.

The preliminary agenda for this meeting is as follows:

Pipeline safety legislation—The impact of the recently passed legislation on integrity management program requirements.

Overview of proposed regulation—The intent and structure of the proposed rule.

HCA Identification—The refinement of the definition of high consequence areas and moderate risk areas in the proposed rule.

Risk assessment, plan development, and data integration—Proposed risk assessment, with particular emphasis on confirmatory direct assessment methods, and the proposed plan development process, identification of high consequence areas and moderate risk areas; confirmatory direct assessment methods; assessment schedules, and criteria for the performance approach to the program.

IMP Implementation & Data Integration

Costs and benefits—The draft regulatory evaluation.

Open Forum & Q&A

Issued in Washington, DC, on February 26, 2003.
Stacey L. Gerard,
Associate Administrator for Pipeline Safety.

[FR Doc. 03-4919 Filed 2-28-03; 8:45 am]

BILLING CODE 4910-60-P